DEPARTMENT OF TRANSPORTATION

Federal Aviation Administration

14 CFR Part 71

[Docket No. FAA-2002-13947; Airspace Docket No. 02-AEA-14]

Amendment of Class E Airspace; Pennsylvania, New Jersey, Delaware

AGENCY: Federal Aviation Administration (FAA) DOT.

ACTION: Final Rule; request for comments.

SUMMARY: This action removes the description of the Class E airspace designated for Wilmington, DE; Coatsville, PA; Toughkenamon, PA; Pottstown, PA; Doylestown, PA; Quakertown, PA; Collegeville, PA; North Philadelphia, PA; Perkasie, PA; Berlin, NJ, Cross Keys, NJ; Vincentown, NJ; Hammonton, NJ; and Millville, NJ. The affected Class E-5 airspace for the airports included in these descriptions will be consolidated into the Philadelphia, PA airspace description contained in Docket No. FAA-2002-13944; Airspace Docket No. 02-AEA-03, effective March 20, 2003.

DATES: Effective date: March 20, 2003.

Comments Date: Comments must be received on or before January 10, 2003.

ADDRESSES: Send comments on the rule to the Docket Management System, U.S. Department of Transportation, Room Plaza 401, 400 Seventh Street, SW., Washington, DC 20590-0001. You must identify the docket number FAA-2002-13497/Airspace Docket No. 02-AEA-14 at the beginning of your comments. You may also submit comments on the Internet at http://dms.dot.gov. You may review the public docket containing the rule, any comments received, and any final disposition in person in the Docket Office between 9 a.m. to 5 p.m., Monday through Friday, except Federal holidays. The Docket Office (telephone 1-800-647-5527) is on the plaza level of the Department of Transportation NASSIF Building at the above address.

An informal docket may also be examined during normal business hours at the office of the Regional Air Traffic Division, Federal Aviation Administration, Eastern Region, 1 Aviation Plaza, Jamaica, NY 11434-4890.

FOR FURTHER INFORMATION CONTACT: Mr. Francis Jordan, Airspace Specialist, Airspace Branch, AEA-520, Aviation Plaza, Jamaica, NY 11434-4809, telephone: (718) 553-4521.

SUPPLEMENTARY INFORMATION: Although this action is a final rule, which involves the amendment of Class E airspace within Delaware, Pennsylvania, and New Jersey, by consolidating that airspace into one description, and was not preceded by notice and public procedure, comments are invited on the rule. This rule will become effective on the date specified in the DATES section. However, after the review of any comments and, if the FAA finds that further changes are appropriate, it will initiate rulemaking proceedings to extend the effective date or to amend the regulation.

Comments that provide the factual basis supporting the views and suggestions presented are particularly helpful in evaluating the effects of the rule, and in determining whether additional rulemaking is required. Comments are specifically invited on the overall regulatory, aeronautical, economic, environmental, and energy-related aspects of the rule which might suggest the need to modify the rule.

The Rule

This amendment to Part 71 of the Federal Aviation Regulations (14 CFR Part 71) amends the description of Class E airspace in the Philadelphia, PA area by removing the airspace designations for Wilmington, DE; Coatsville, PA; Toughkenamon, PA; Pottstown, PA; Doylestown, PA; Quakertown, PA; Collegeville, PA; North Philadelphia, PA; Perkasie, PA; Berlin, NJ; Cross Keys, NJ; Vincentown, NJ; Hammonton, NJ; and Millville, NJ and consolidating those airspace areas into the Philadelphia, PA description. The proliferation of airports with Instrument Flight Rule (IFR) operations in the vicinity of Philadelphia, PA has resulted in overlap of numerous Class E airspace areas and confused charting. This action clarifies the airspace and diminishes the scope and complexity of charting. The IFR airports within those areas will be incorporated into the Philadelphia, PA Class E airspace area. Accordingly, since this action merely consolidated these airspace areas into one airspace designation and has inconsequential impact on aircraft operations in the area, notice and public procedure under 5 U.S.C. 553(b) are unnecessary.

Class E airspace designations for airspace extending upward from 700 feet or more above the surface of the earth are published in paragraph 6005 of FAA Order 7400.9K, dated August 30, 2002, and effective September 16, 2002, which is incorporated by reference in 14 CFR 71.1. The Class E airspace designation listed in this document will be published subsequently in the Order. The FAA has determined that this regulation only involves an established body of technical regulations for which frequent and routine amendments are necessary to keep them operationally current. Therefore, this regulation: (1) Is not a “significant regulatory action” under Executive Order 12866; (2) is not a “significant rule” under DOT Regulatory Polices and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporated by reference, Navigation (air).

Adoption of the Amendment

In consideration of the foregoing, the Federal Aviation Administration amends 14 CFR Part 71 as follows:

PART 71—[Amended]

1. The authority citation for Part 71 continues to read as follows:

Authority: 49 U.S.C. 106(g), 40103, 40113, 40120; E.O. 10854; 24 FR 9565, 3 CFR, 1959-1963 Comp., p. 389.

§ 71.1 [Amended]

2. The incorporation by reference in 14 CFR 71.1 of the Federal Aviation Administration Order 7400.9K, Airspace Designations and Reporting Points, dated August 30, 2002 and effective September 16, 2002, is amended as follows:

Paragraph 6005 Class E airspace areas extending from 700 feet or more above the surface of the earth.

* * * * *

AEA DE E5 Wilmington, DE [Removed]

AEA PA E5 Coatsville, PA [Removed]

AEA PA E5 Toughkenamon, PA [Removed]

AEA PA E5 Pottstown, PA [Removed]

AEA PA E5 Doylestown, PA [Removed]

AEA PA E5 Quakertown, PA [Removed]

AEA PA E5 Collegeville, PA [Removed]

AEA PA E5 North Philadelphia, PA [Removed]

AEA PA E5 Perkasie, PA [Removed]

AEA-NJ E5 Berlin, NJ [Removed]

AEA NJ E5 Cross Keys, NJ [Removed]

AEA NJ E5 Vincentown, NJ [Removed]

AEA NJ E5 Hammonton, NJ [Removed]

AEA NJ E5 Millville, NJ [Removed]

* * * * *

Issued in Jamaica, New York on December 13, 2002.
Richard J. Ducharme,
Assistant Manager, Air Traffic Division, Eastern Region.

[FR Doc. 03-69 Filed 1-2-03; 8:45 am]

BILLING CODE 4910-13-M